DEPARTMENT OF THE INTERIOR

Bureau of Ocean Energy Management

[Docket No. BOEM-2023-0034]

Notice of Intent To Prepare an Environmental Assessment for Commercial Wind Lease Issuance and Site Assessment Activities on the Atlantic Outer Continental Shelf Offshore Delaware, Maryland, and Virginia

AGENCY: Bureau of Ocean Energy Management, Interior

ACTION: Notice of intent; request for comments.

SUMMARY: In compliance with the National Environmental Policy Act (NEPA) of 1969, as amended, the Bureau of Ocean Energy Management (BOEM) intends to prepare an environmental assessment (EA) to consider the potential environmental impacts associated with possible wind energy-related leasing, site assessment, and site characterization activities on the U.S. Atlantic Outer Continental Shelf (OCS). BOEM is seeking public input regarding important environmental issues and the identification of reasonable alternatives that should be considered in the EA. The environmental impacts of any proposed wind energy projects will be assessed after a lease is issued and before BOEM decides whether or not to approve any lessee's project construction and operations plan.

DATES: BOEM must receive your comments no later than August 31, 2023.

ADDRESSES: You may submit comments by either of the following methods:

• Through the regulations.gov web portal: Navigate to http://www.regulations.gov and search for Docket No. BOEM-2023-0034 to submit public comments and view supporting and related materials available for this notice. Click on the “Comment” button below the document link. Enter your information and comment, then click “Submit Comment”; or

• By U.S. Postal Service or other delivery service: Send your comments and information to the following address: Bureau of Ocean Energy Management, Office of Renewable Energy Programs, 45600 Woodland Road, Mail Stop VAM-OREP, Sterling, VA 20166.

FOR FURTHER INFORMATION CONTACT: Jessica Stromberg, BOEM, Environment Branch for Renewable Energy, 45600 Woodland Road, Mail Stop VAM-OREP, Sterling, VA 20166, (703) 787-1730, or jessica.stromberg@boem.gov.

SUPPLEMENTARY INFORMATION:

Authority: This notice of intent to prepare an EA is published pursuant to 43 CFR 46.305.

Background: On November 16, 2022, BOEM announced eight draft wind energy areas (WEAs) on the U.S. Central Atlantic OCS for public review and comment. The draft WEAs are offshore North Carolina, Virginia, Maryland, and Delaware, covering approximately 1.7 million acres. Before finalizing the WEAs, BOEM considered feedback from government partners, ocean users, and stakeholders in addition to potential conflicts with a United States Coast Guard safety fairway, commercial fishing, Department of Defense activities, a National Aeronautics and Space Administration danger zone, and marine habitat areas. On July 31, 2023, BOEM announced the final WEAs, which consist of the WEAs identified as A-2, B-1, and C-1 offshore Delaware, Maryland, and Virginia. Detailed information about the WEAs can be found on BOEM's website at: https://www.boem.gov/central-atlantic.

Proposed Action and Scope of Analysis

The EA's proposed action is issuing wind energy leases in the Central Atlantic WEAs A-2, B-1, and C-1. The EA will consider project easements and grants for subsea cable corridors associated with leasing. The EA also will consider the potential environmental impacts associated with site characterization surveys (i.e., biological, archeological, geological, and geophysical surveys and core samples) and site assessment activities (i.e., installation of meteorological buoys), that are expected to take place following lease issuance. The EA's proposed action does not include the installation of meteorological towers because developers prefer meteorological buoys to collect data. In addition to the no-action alternative, other alternatives may be considered, such as exclusion of certain areas.

BOEM has decided to prepare an EA for this proposed action in order to assist agency planning and decision-making (40 CFR 1501.3). This notice starts the scoping process for the EA and solicits information regarding additional important environmental issues and alternatives that should be considered in the EA (43 CFR 46.305). Additionally, BOEM will use the scoping process to identify and eliminate from detailed analysis issues that are not significant or that have been analyzed by prior environmental reviews (40 CFR 1501.9(f)(1)).

BOEM will use responses to this notice and the EA public input process to satisfy the public involvement requirements of the National Historic Preservation Act (NHPA;, as provided in 36 CFR 800.2(d)(3). Specific to NHPA, BOEM seeks information from the public on the identification and assessment of potential impacts to cultural resources and historic properties that might be impacted by possible wind energy-related leasing, site characterization, and site assessment activities in WEAs A-2, B-1, and C-1.

The EA analyses will also support compliance with other environmental statutes (e.g., Coastal Zone Management Act, Endangered Species Act, Magnuson-Stevens Fishery Conservation and Management Act, and Marine Mammal Protection Act).

Wind energy leases do not authorize any activities on the Outer Continental Shelf. Instead, leases grant lessees the exclusive right to submit plans for BOEM approval. Prior to deciding whether or not to approve any plan for the construction and operation of commercial wind energy facilities, BOEM will prepare a plan-specific environmental analysis and will comply with all consultation requirements. Therefore, this EA will not consider the construction and operation of any commercial wind energy facilities in the WEAs A-2, B-1, and C-1.

Cooperating Agencies: BOEM invites Tribal governments and Federal, State, and local government agencies to consider becoming cooperating agencies in the preparation of this EA. Council on Environmental Quality (CEQ) regulations implementing the procedural provisions of NEPA define cooperating agencies as those with “jurisdiction by law or special expertise with respect to any environmental impact involved in a proposal (or a reasonable alternative)” (40 CFR 1508.1(e)). Potential cooperating agencies should consider their authority and capacity to assume the responsibilities of a cooperating agency. An agency's role in the environmental analysis neither enlarges nor diminishes the final decision-making authority of any other agency involved in the NEPA process.

Upon request, BOEM will provide potential cooperating agencies with a draft memorandum of agreement that includes a schedule with critical action dates and milestones, mutual responsibilities, designated points of contact, and expectations for handling pre-decisional information. Agencies should also consider the “Factors for Determining Whether to Invite, Decline or End Cooperating Agency Status” in CEQ's memo “Cooperating Agencies in Implementing the Procedural Requirements of [NEPA]” dated January 30, 2002. A copy of this document is available at: https://www.energy.gov/sites/prod/files/nepapub/nepa_documents/RedDont/G-CEQ-CoopAgenciesImplem.pdf.

BOEM, as the lead agency, will not provide financial assistance to cooperating agencies. Even if an organization is not a cooperating agency, opportunities will exist to provide information and comments to BOEM during the normal public input phases of the NEPA process.

Comments: Federal agencies, Tribal, State, local governments, and other interested parties are requested to comment on the important issues to be considered in the EA. For information on how to submit comments and deadline, see the DATES and ADDRESSES section above.

Privileged and Confidential Information

BOEM will protect privileged and confidential information in your comment under the Freedom of Information Act (FOIA). Exemption 4 of FOIA applies to trade secrets and commercial and financial information that is privileged or confidential. If you wish to protect the confidentiality of such information, clearly label it and request that BOEM treat it as confidential. BOEM will not disclose such information if BOEM determines under 30 CFR 585.114(b) that it qualifies for a FOIA exemption. Please label privileged or confidential information “Contains Confidential Information” and consider submitting such information as a separate attachment.

BOEM will not treat as confidential any aggregate summaries of such information or comments not containing such privileged or confidential information. Information that is not labeled as privileged or confidential may be regarded by BOEM as suitable for public release.

Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Except for clearly identified privileged and confidential information, BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your submission is subject to FOIA and, if your submission is requested under the FOIA, your information will only be withheld if a determination is made that one of the FOIA's exemptions to disclosure applies. Such a determination will be made in accordance with the Department's FOIA regulations and applicable law.

Section 304 of the National Historic Preservation Act (54 U.S.C. 307103(a))

After consultation with the Secretary of the Interior, BOEM is required to withhold the location, character, or ownership of historic resources if it determines that disclosure may, among other things, cause a significant invasion of privacy, risk harm to the historic resources, or impede the use of a traditional religious site by practitioners. Tribal entities and other parties providing information on historic resources should designate information that they wish to be held as confidential and provide the reasons why BOEM should do so.

Karen Baker,
Chief, Office of Renewable Energy Programs, Bureau of Ocean Energy Management.

[FR Doc. 2023-16313 Filed 7-31-23; 8:45 am]

BILLING CODE 4340-98-P